DEPARTMENT OF HEALTH AND HUMAN SERVICES

Administration for Children and Families

Expedited OMB Review and Public Comment; Proposed Information Collection Activity; Placement and Transfer of Unaccompanied Alien Children Into ORR Care Provider Facilities

AGENCY: Office of Refugee Resettlement, Administration for Children and Families, HHS.

ACTION: Request for Public Comment.

SUMMARY: The Office of Refugee Resettlement (ORR), Administration for Children and Families (ACF), U.S. Department of Health and Human Services (HHS), is requesting expedited review of an information collection request from the Office of Management and Budget (OMB) and inviting public comments on the proposed collection. The request consists of several forms that allow the Unaccompanied Alien Children (UAC) Program to place UAC referred to federal agencies into care provider facilities and to transfer UAC within the ORR care provider network.

DATES: Comments due within 60 days of publication. In compliance with the requirements of Section 3506(c)(2)(A) of the Paperwork Reduction Act of 1995, ACF is soliciting public comment on the specific aspects of the information collection described in this notice.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: ACF is requesting that OMB grant a 180-day approval for this request under procedures for expedited processing. Any edits resulting from public comment will be incorporated into the submission under normal procedures.

The components of this information request include:

1. Placement Authorization (Form P-1): This instrument is used by ORR to authorize a care provider to provide care and services to UAC placed in their facility. Care providers sign the instrument to acknowledge certain responsibilities related to the care of UAC. This form is currently approved under OMB Number 0970-0498.

2. Authorization for Medical, Dental, and Mental Health Care (Form P-2): This instrument is used by ORR to authorize a care provider to provide medical, dental, and mental health care services to UAC placed in their facility. Care providers sign the instrument to acknowledge certain responsibilities related to the care of UAC.

3. Notice of Placement in a Restrictive Setting (Form P-4/4s): This instrument is used by care providers to document and inform UAC of the reason they have been placed in a restrictive setting. This form is currently approved under OMB Number 0970-0498 under the title Notice of Placement in Secure or Staff Secure.

4. Long Term Foster Care Placement Memo (Form P-5): This instrument is used by care providers to ensure continuity of services and tracking of records for UAC following transfer. This form is currently approved under OMB Number 0970-0498.

5. Intakes Placement Checklist (Form P-7): This instrument is used by ORR Intakes staff to determine whether initial placement in a restrictive setting is appropriate for UAC. This form is currently approved under OMB Number 0970-0498 under the title Further Assessment Swift Track (FAST) Placement Tool.

6. Care Provider Checklist for Transfers to an Influx Care Facility (Form P-8): This instrument is used by care providers to ensure that all criteria for transfer of UAC to an influx care facility have been met.

7. Medical Checklist for Transfers (Form P-9A): This instrument is used by care providers to ensure that UAC are medically cleared for transfer within the ORR care provider network, excluding transfer to an influx care facility.

8. Medical Checklist for Influx Transfers (Form P-9B): This instrument is used by care providers to ensure that UAC are medically cleared for transfer to an influx care facility.

9. Transfer Request (Form P-10): This instrument is used by care provider facilities, ORR contractor staff, and ORR federal staff to process recommendations and decisions for transfer of UAC within the ORR care provider network. This form is currently approved under OMB Number 0970-0498 under the title Transfer Request and Tracking Form.

10. Transfer Request and Tracking Form (Form P-11): This instrument is used by care providers to track the physical transfer of UAC and their belongings.

11. UAC Portal Capacity Report (Form P-12): This instrument is used by care providers and ORR to track availability of beds in care provider facilities. This form is currently approved under OMB Number 0970-0498.

12. Add New UAC (Form P-13): This instrument is used by federal agencies to refer UAC to ORR custody and by ORR Intakes staff to place UAC in an ORR care provider facility.

13. Notice of Transfer to ICE Chief Counsel—Change of Address/Change of Venue (Form P-14): This instrument is used by care providers to notify U.S. Department of Homeland Security (DHS) of the transfer of UAC within the ORR care provider network so that DHS may file a Motion for Change of Venue and/or Change of Address with the Executive Office for Immigration Review to ensure the UAC's immigration case is transferred to the local immigration court, if applicable. This form is currently approved under OMB Number 0970-0498.

Respondents: ORR grantee and contractor staff; other federal agencies.

Annual Burden Estimates
Instrument | Annual total number of respondents | Annual total number of responses per respondent | Average burden minutes per response | Annual total burden hours
Placement Authorization (Form P-1) | 206 | 377 | 1 | 1,294
Authorization for Medical, Dental, and Mental Health Care (Form P-2) | 206 | 377 | 1 | 1,294
Notice of Placement in a Restrictive Setting (Form P-4/4s) | 15 | 68 | 20 | 340
Long Term Foster Care Placement Memo (Form P-5) | 30 | 4 | 15 | 30
Intakes Placement Checklist (Form P-7) | 16 | 4,343 | 15 | 17,372
Care Provider Checklist for Transfers to an Influx Care Facility (Form P-8) | 206 | 11 | 15 | 567
Medical Checklist for Transfers (Form P-9A) | 206 | 29 | 5 | 498
Medical Checklist for Influx Transfers (Form P-9B) | 206 | 11 | 10 | 378
Transfer Request (Form P-10) | 206 | 39 | 45 | 6,026
Transfer Request and Tracking Form (Form P-11) | 206 | 39 | 10 | 1,339
UAC Portal Capacity Report (Form P-12) | 206 | 365 | 5 | 6,266
Add New UAC (Form P-13) | 50 | 1,390 | 15 | 17,375
Notice of Transfer to ICE Chief Counsel—Change of Address/Change of Venue (Form P-14) | 206 | 39 | 10 | 1,339
Estimated Annual Burden Total |  |  |  | 54,117

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology.

Authority: 6 U.S.C. 279; 8 U.S.C. 1232; Flores v. Reno Settlement Agreement, No. CV85-4544-RJK (C.D. Cal. 1996).

John M. Sweet Jr.,
ACF/OPRE Certifying Officer.

[FR Doc. 2020-16043 Filed 7-23-20; 8:45 am]

BILLING CODE 4184-45-P